DEPARTMENT OF COMMERCE

Foreign-Trade Zones Board

[B-15-2015]

Foreign-Trade Zone (FTZ) 44—Mount Olive, New Jersey; Notification of Proposed Production Activity, Givaudan Fragrances Corporation, (Fragrance Compounds), Mount Olive, New Jersey

Givaudan Fragrances Corporation (Givaudan), an operator of FTZ 44, submitted a notification of proposed production activity to the FTZ Board for its facility located in Mount Olive, New Jersey. The notification conforming to the requirements of the regulations of the FTZ Board (15 CFR 400.22) was received on March 4, 2015.

Givaudan already has authority to produce fragrance compounds within Site 1 of FTZ 44. The current request would add foreign-status materials to the scope of authority. Pursuant to 15 CFR 400.14(b), additional FTZ authority would be limited to the specific foreign-status materials and components and specific finished products described in the submitted notification (as described below) and subsequently authorized by the FTZ Board.

Production under FTZ procedures could exempt Givaudan from customs duty payments on the foreign status materials used in export production. On its domestic sales, Givaudan would be able to choose the duty rate during customs entry procedures that applies to fragrance compounds (free) for the foreign status materials noted below and in the existing scope of authority. Customs duties also could possibly be deferred or reduced on foreign status production equipment.

The components and materials sourced from abroad include: lactic acid salts and esters; tartaric acid salts and esters; and, acridine and indole (duty rate ranges from free to 4.4%).

Public comment is invited from interested parties. Submissions shall be addressed to the FTZ Board's Executive Secretary at the address below. The closing period for their receipt is April 27, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Kathleen Boyce at Kathleen.Boyce@trade.gov (202) 482-1346.

Dated: March 12, 2015.
Andrew McGilvray,
Executive Secretary.

[FR Doc. 2015-06271 Filed 3-17-15; 8:45 am]

BILLING CODE 3510-DS-P